DEPARTMENT OF EDUCATION

Office of Innovation and Improvement; Overview Information; DC School Choice Incentive Program; Notice Reopening Fiscal Year (FY) 2009 Competition for the DC School Choice Incentive Program.

Catalog of Federal Domestic Assistance (CFDA) Number: 84.370A.

Summary: On April 23, 2009, we published in the Federal Register (74 FR 18567) a notice inviting applications for new awards for FY 2009 for the DC School Choice Incentive Program. The original notice for the FY 2009 DC School Choice Incentive Program competition established a May 26, 2009, deadline date for eligible applicants to apply for funding under this program. The notice in the Federal Register required applicants for this competition to submit their applications in paper format by mail or hand delivery. The application package and instructions on the Department's Web site, however, mistakenly instructed applicants to use the e-Grants.ed.gov Web site. Because of the differing instructions, we are reopening and establishing a new deadline for the submission of applications for the FY 2009 competition for the DC School Choice Incentive Program competition. Applicants must refer to the notice inviting applications for new awards that was published in the Federal Register on April 23, 2009 (74 FR 18567) for all other requirements concerning this reopened competition.

The new deadline date is:

Deadline for Transmittal of Applications: July 13, 2009.

Applications for grants under this competition must be submitted in paper format by mail or hand delivery. For information (other than the deadline for submission) about how to submit your application, please refer to section IV.6. Other Submission Requirements in the April 23, 2009 Federal Register notice (74 FR 18527).

Note: For all applicants who previously submitted an application in accordance with the April 23, 2009 Federal Register notice with the original application deadline of May 26, 2009; you must submit a new application. The current application package is posted on the program's Web site at: http://www.ed.gov/programs/dcchoice/applicant.html.

For Further Information Contact: Michelle Armstrong, U.S. Department of Education, 400 Maryland Avenue, SW., room 4W217, Washington, DC 20202-5970. Telephone: (202) 205-1729 or by e-mail at Michelle.Armstrong@ed.gov.

If you use a telecommunications device for the deaf (TDD), call the Federal Relay Service (FRS), toll free, at 1-800-877-8339.

Individuals with disabilities can obtain a copy of the application package in an accessible format (e.g., braille, large print, audiotape, or computer diskette) by contacting the program contact person listed in this section.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 30, 2009.
James H. Shelton, III,
Assistant Deputy Secretary for Innovation and Improvement.

[FR Doc. E9-15878 Filed 7-2-09; 8:45 am]

BILLING CODE 4000-01-P